DEPARTMENT OF LABOR

Employment and Training Administration

[TA-W-64,108; TA-W-64,108C; TA-W-64,108D]

American Fibers and Yarns Company, Chapel Hill, NC; Including Employees of American Fibers and Yarns Company, Chapel Hill, NC Operating at Various Locations in the Following States: Delaware, South Carolina; Amended Certification Regarding Eligibility To Apply for Worker Adjustment Assistance and Alternative Trade Adjustment Assistance

In accordance with section 223 of the Trade Act of 1974 (19 U.S.C. 2273), and section 246 of the Trade Act of 1974 (26 U.S.C. 2813), as amended, the Department of Labor issued a Certification of Eligibility to Apply for Worker Adjustment Assistance and Alternative Trade Adjustment Assistance on October 14, 2008, applicable to workers of American Fibers and Yarns Company, Chapel Hill, North Carolina. The notice will be published soon in the Federal Register.

At the request of a company official, the Department reviewed the certification for workers of the subject firm.

New information shows that worker separations have occurred involving employees of the Chapel Hill, North Carolina location of American Fibers and Yarns Company operating out of various locations in the states of Delaware and South Carolina. These employees provided sales function services for the production of polypropylene yarn produced by the subject firm.

Based on these findings, the Department is amending this certification to include employees of the Chapel Hill, North Carolina facility of the subject firm working out of various locations in the above mentioned states.

The intent of the Department's certification is to include all workers of American Fibers and Yarns Company, Chapel Hill, North Carolina who qualify as secondarily affected by increased imports of polypropylene yarn.

The amended notice applicable to TA-W-64,108 is hereby issued as follows:

All workers of American Fibers and Yarns Company, Chapel Hill, North Carolina (TA-W-64,108), including employees in support of American Fibers and Yarns Company, Chapel Hill, North Carolina located at various locations in the following states: Delaware (TA-W-64,108C) and South Carolina (TA-W-64,108D), who became totally or partially separated from employment on or after September 24, 2007, through October 14, 2010, are eligible to apply for adjustment assistance under Section 223 of the Trade Act of 1974, and are also eligible to apply for alternative trade adjustment assistance under Section 246 of the Trade Act of 1974.

Signed at Washington, DC, this 29th day of October 2008.
Richard Church,
Certifying Officer, Division of Trade Adjustment Assistance.

[FR Doc. E8-26685 Filed 11-7-08; 8:45 am]

BILLING CODE 4510-FN-P